ENVIRONMENTAL PROTECTION AGENCY

40 CFR Part 152 and 156

[OPP-36190B; FRL-6551-1]

RIN 2070-AC46

Equivalency of Pesticides Metolachlor and S-metolachlor With Respect to Ground Water Contamination; Supplemental Notice of Availability and Extension of Comment Period

AGENCY: Environmental Protection Agency (EPA).

ACTION: Supplemental Notice of Availability and extension of comment period.

SUMMARY: The Agency is providing supplemental information for an existing Notice of Availability and Request for Comment (65 FR 8925, February 23, 2000) and an extension of the original comment period. The original Notice provided an opportunity for the public and affected parties to submit comments on whether additional information shows that metolachlor and S-metolachlor are equivalent with respect to leaching and potential ground water contamination. EPA is seeking comment on the specific information that is being made available, which is described in this document, and is extending the original comment period by 30 days.

DATES: Comments, identified by the docket control number OPP-36190B, must be received on or before April 24, 2000.

ADDRESSES: Comments may be submitted by mail, electronically, or in person. Please follow the detailed instructions for each method as provided in Unit I. of the SUPPLEMENTARY INFORMATION. To ensure proper receipt by EPA, it is imperative that you identify docket control number OPP-36190B in the subject line on the first page of your response.

FOR FURTHER INFORMATION CONTACT: Arthur-Jean B. Williams, Field and External Affairs Division (7506C), Office of Pesticide Programs, Environmental Protection Agency, Ariel Rios Bldg., 1200 Pennsylvania Ave., NW., Washington, DC 20460; telephone number: 703-305-5239; fax number: 703-308-3259; e-mail address: williams.artry@epa.gov.

SUPPLEMENTARY INFORMATION:

I. General Information

A. Does this Action Apply to Me?

This supplemental notice of data availability and request for comment is directed to the public in general. It may, however, be of particular interest to you if you register, distribute, apply, or manage the application of a pesticide that contains optically active isomeric active ingredients and, in particular, a product enriched for one (usually more pesticidally active) optical isomer. In addition, persons commenting on the Ground Water and Pesticide Management Plan proposal (61 FR 33260, June 26, 1996) (FRL-4981-9) may be particularly interested in some or all of these data. Since others may also be interested, the Agency has not attempted to describe all the specific entities that may be affected by this action. If you have any questions regarding the applicability of this action to a particular entity, consult the person listed in the FOR FURTHER INFORMATION CONTACT.

B. How Can I Get Additional Information, Including Copies of this Document and Other Related Documents?

In person. The Agency has established an official record for this action under docket control number OPP-36190B. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit your comments through the mail, in person, or electronically. Please follow the instructions that are provided below. Do not submit any information electronically that you consider to be CBI. To ensure proper receipt by EPA, be sure to identify docket control number OPP-36190B in the subject line on the first page of your response.

1. By mail. Submit your comments to: Public Information and Records Integrity Branch (PIRIB), Information Resources and Services Division (7502C), Office of Pesticide Programs (OPP), Environmental Protection Agency, Ariel Rios Bldg., 1200 Pennsylvania Ave NW, Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8 a.m. to 4 p.m., Monday through Friday, excluding legal holidays. The PIRIB telephone number is 703-305-5805.

3. Electronically. You may submit your comments electronically by e-mail to: “opp-docket@epa.gov,” or you can submit a computer disk as described above. Do not submit any information electronically that you consider to be CBI. Avoid the use of special characters and any form of encryption. Electronic submissions will be accepted in Wordperfect 6.1/8.0 or ASCII file format. All comments in electronic form must be identified by the docket control number OPP-36190B. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the proposed rule or collection activity.

7. Make sure to submit your comments by the deadline in this proposed rule extension.

8. To ensure proper receipt by EPA, be sure to identify the docket control number assigned to this action in the subject line on the first page of your response. You may also provide the name, date, and Federal Register citation.

II. Background

A. What Action is EPA Taking?

EPA is providing supplemental information on S-metolachlor and is extending the comment period for 30 days.

B. What Additional Data is EPA Making Available for Comment?

1. Novartis Study No. 381-97, in response to EPA Review of CGA-77102 Ecological Toxicology Studies, June 11, 1997.

2. Novartis Study No. 314-97, in response to EPA Review of CGA- 77102/Metolachlor Environmental Fate Studies, June 6, 1997.

C. Why is EPA Seeking Comment on This Additional Data?

Three commenters requested an extension of the comment period. Of these, one commenter to the February 23, 2000, Notice of Availability and Request for Comment argued that additional information on S-metolachlor it had provided to EPA also warranted public comment. EPA is noticing that here.

III. Do Any Regulatory Assessment Requirements Apply to this Action?

No. This action is not a rule, it merely announces the availability of and requests comments on supplemental information related to a previous Notice (65 FR 8925, February 23, 2000) and extends the date by which public comments must be submitted to EPA. This information is related to, among other things, a proposed rule that previously published in the Federal Register of June 26, 1996 (61 FR 33260). For information about the applicability of the regulatory assessment requirements to that proposed rule, which published in the Federal Register, please refer to the discussion in Unit VIII of that document.

List of Subjects

40 CFR Part 152

Environmental protection, Administrative practice and procedure, Pesticides and pest, Reporting and recordkeeping requirements.

40 CFR Part 156

Environmental protection, Labeling, Occupational safety and health, Pesticides and pest, Reporting and recordkeeping requirements.

Dated: March 20, 2000.
Susan H. Wayland,
Acting Assistant Adminstrator for Prevention, Pesticides, and Toxic Substances.

[FR Doc. 00-7446 Filed 3-22-00; 2:08 pm]

BILLING CODE 6560-50-F